DEPARTMENT OF COMMERCE

National Oceanic and Atmospheric Administration

RIN 0648-XA060

Endangered Species; Permit No. 15677

AGENCY: National Marine Fisheries Service (NMFS), National Oceanic and Atmospheric Administration (NOAA), Commerce.

ACTION: Notice; receipt of application.

SUMMARY: Notice is hereby given that South Carolina Department of Natural Resources (hereinafter “Permit Holder”), P.O. Box 12559 Charleston, SC 29422 [Responsible Party/Principal Investigator: William C. Post] has applied in due form to take shortnose sturgeon (Acipenser brevirostrum) for purposes of scientific research.

DATES: Written, telefaxed, or e-mail comments must be received on or before December 30, 2010.

ADDRESSES: The application and related documents are available for review by selecting “Records Open for Public Comment” from the Features box on the Applications and Permits for Protected Species (APPS) home page, https://apps.nmfs.noaa.gov/, and then selecting File No. 15677 from the list of available applications.

These documents are available upon written request or by appointment in the following offices:

• Permits, Conservation and Education Division, Office of Protected Resources, NMFS, 1315 East-West Highway, Room 13705, Silver Spring, MD 20910; phone (301) 713-2289; fax (301) 713-0376; and

• Southeast Region, NMFS, 263 13th Avenue South, Saint Petersburg, Florida 33701; phone (727) 824-5312; fax (727) 824-5309.

Written comments on this application should be submitted to the Chief, Permits, Conservation and Education Division.

• By e-mail to NMFS.Pr1Comments@noaa.gov (include the File No. in the subject line)

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Malcolm Mohead or Colette Cairns, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant's goal is to assess presence, abundance, and distribution of shortnose sturgeon within South Carolina rivers (Savannah, Edisto, Cooper, Santee Rivers, Santee-Cooper Lakes, and Winyah Bay system). During 2011-2016, up to 134 shortnose sturgeon in all South Carolina rivers would be captured using gill nets, trammel nets and trawls. Annually, shortnose sturgeon would be taken in good condition and measured, weighed, sampled for genetic tissue analysis, and PIT tagged. Additionally, selected adults and juveniles would be captured, anesthetized, and implanted with an internal sonic transmitter. In addition, shortnose sturgeon sex would be determined from a sample of fish annually by either laparoscopy or tubular biopsy. Blood from known sexes would be collected and processed determining the level of endrocrine disrupters in the environment. Manual tracking and passive detections of telemetered fish at fixed receiver stations would be used to provide information about movements and habitat use. Recaptures of tagged fish may also be used for estimating abundance if appropriate.

Dated: November 23, 2010.
P. Michael Payne,
Chief, Permits, Conservation and Education Division, Office of Protected Resources, National Marine Fisheries Service.

[FR Doc. 2010-30173 Filed 11-29-10; 8:45 am]

BILLING CODE 3510-22-P